DEPARTMENT OF JUSTICE

Notice of Lodging of Consent Decree Pursuant to the Clean Water Act

In accordance with 28 CFR 50.7, 38 FR 19029, notice is hereby given that on August 15, 2012, a Consent Decree was lodged with the United States District Court for the District of Massachusetts in United States v. City of Fitchburg, Massachusetts, Civil Action No. 12-cv-11511. A complaint in the action was also filed simultaneously with the lodging of the Consent Decree. In the complaint the United States, on behalf of the U.S. Environmental Protection Agency (EPA), alleges that the defendant City of Fitchburg (“Fitchburg”) violated Sections 309(b) and (d) of the Clean Water Act (“CWA”), 33 U.S.C. 1309(b) and (d), and applicable regulations relating to Fitchburg's failure to comply with the CWA in the operation of its publicly-owned treatment works (“POTW”) to collect and treat sanitary sewage and industrial wastes. The consent decree requires Fitchburg to pay a civil penalty of $141,000 and to undertake measures to upgrade and adjust its POTW facilities and operations in order to achieve compliance with the above-referenced provisions of the CWA and applicable regulations. Under the consent decree Fitchburg will also undertake a Supplemental Environmental Project to stabilize a portion of a riverbank in Fitchburg.

For a period of thirty (30) days from the date of this publication, the United States Department of Justice will receive comments relating to the proposed Consent Decree. Comments should be addressed to the Assistant Attorney General for the Environment and Natural Resources Division, and should either be emailed to pubcomment-ees.enrd@usdoj.gov or mailed to P.O. Box 7611, Washington, DC 20044-7611. The comments should refer to United States v. Fitchburg, Massachusetts D.J. Ref. # 90-5-1-1-07874.

During the public comment period, the proposed Consent Decree may be examined at the office of the United States Attorney, Suite 9200, 1 Courthouse Way, Boston, Massachusetts 02110, and at the Region I office of the Environmental Protection Agency, One Congress Street, Suite 1100, Boston, Massachusetts 02114. The proposed Consent Decree may also be obtained at the following Department of Justice Web site: http://www.usdoj.gov/enrd/Consent_Decrees.html. A copy may also be obtained by mail from the Department of Justice Consent Decree Library, P.O. Box 7611, Washington, DC 20044-7611 or by faxing or emailing a request to “Consent Decree Copy” (EESCDCopy.enrd@usdoj.gov), fax no. (202) 514-0097, phone confirmation number (202) 514-5271. If requesting a copy from the Consent Decree Library by mail, please enclose a check in the amount of $15.75 ($.25 per page of) payable to the U.S. Treasury, or if be email or fax, forward a check in that amount to the Consent Decree Library at the address given above.

Ronald Gluck,
Assistant Chief, Environmental Enforcement Section, Environment & Natural Resources Division.

[FR Doc. 2012-20509 Filed 8-20-12; 8:45 am]

BILLING CODE 4410-15-P